DEPARTMENT OF ENERGY

[OE Docket No. EA-408-A]

Application to Export Electric Energy; Nalcor Energy Marketing Corporation

AGENCY: Office of Electricity, Department of Energy.

ACTION: Notice of application.

SUMMARY: Nalcor Energy Marketing Corporation (Applicant or NEMC) has applied to renew its authorization to transmit electric energy from the United States to Canada pursuant to the Federal Power Act.

DATES: Comments, protests, or motions to intervene must be submitted on or before March 20, 2020.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On May 22, 2015, DOE issued Order EA-408, which authorized NEMC to transmit electric energy from the United States to Canada as a power marketer for a five-year term using existing international transmission facilities appropriate for open access. The authorization expires on May 22, 2020. On February 3, 2020, NEMC filed an application (Application or App.) with DOE for renewal of the export authorization contained in Order No. EA-408-A for an additional five-year term. App. at 4. NEMC states that it “is a wholly owned subsidiary of NEMC, which is a Crown corporation wholly owned by the Province of Newfoundland and Labrador, and responsible for the management of the Province's energy resources” and that “NEMC will purchase electric energy from wholesale energy markets operated by NYISO, ISO-NE, MISO or other organized electric markets in which NEMC holds status as a market participant, as well as through bilateral, voluntary agreements with electric or municipal utilities, cooperatives and federal power marketing agencies (as applicable).” Id. At 2. The Applicant further states that “the electric energy that NEMC will export on either a firm or interruptible basis will not impair the sufficiency of the electric power supple in the United States.” Id. at 4. The existing international transmission facilities to be utilized by the Applicant have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Two (2) copies of such comments, protests, or motions to intervene should be sent to the address provided above on or before the date listed above.

Comments and other filings concerning NEMC application to export electric energy to Canada should be clearly marked with OE Docket No. EA-408-A. Additional copies are to be provided directly to Greg Jones, Nalcor Energy Marketing Corporation, 500 Columbus Drive—Hydro Place, P.O. Box 15200, St. John's NL, A1B0P5, Canada and to Joseph B. Nelson, Van Ness Feldman, LLP, 1050 Thomas Jefferson St. NW, Washington, DC 20007.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Matthew Aronoff at matthew.aronoff@hq.doe.gov.

Signed in Washington, DC, on February 10, 2020.
Christopher Lawrence,
Management and Program Analyst, Transmission Permitting and Technical Assistance, Office of Electricity.

[FR Doc. 2020-03229 Filed 2-18-20; 8:45 am]

BILLING CODE 6450-01-P